GENERAL SERVICES ADMINISTRATION

[Notice-PMAB-2015-02; Docket No. 2015-0002; Sequence 29]

The President's Management Advisory Board (PMAB); Notification of Upcoming Public Advisory Meeting

AGENCY: Office of Executive Councils, General Services Administration (GSA).

ACTION: Meeting notice.

SUMMARY: The President's Management Advisory Board (PMAB), a Federal Advisory Committee established in accordance with the Federal Advisory Committee Act (FACA), will hold a public meeting on Monday, November 16, 2015.

DATES: Effective: October 28, 2015.

Meeting date: The meeting will be held on Monday, November 16, 2015, beginning at 9:00 a.m. Eastern Standard Time (EST), ending no later than 1:00 p.m., EST.

ADDRESSES: The meeting will be held at the Eisenhower Executive Office Building, 1650 Pennsylvania Avenue NW., Washington, DC.

FOR FURTHER INFORMATION CONTACT: Mr. Brad Golson, Designated Federal Officer, President's Management Advisory Board, Office of Executive Councils, GSA, 1800 F Street NW., Washington, DC 20006, at 202-969-7989, or via email at brad.golson@gsa.gov.

SUPPLEMENTARY INFORMATION:

Background

The PMAB was established to provide independent advice and recommendations to the President and the President's Management Council on a wide range of issues related to the development of effective strategies for the implementation of best business practices to improve Federal Government management and operation.

Agenda

The main purpose of this meeting is to obtain recommendations from PMAB members on effective implementation of the FedStat process used by the Office of Management and Budget (OMB), to assess effective management practices, and of the Federal Information Technology Acquisition Reform Act (FITARA), which was passed by Congress during the 113th session of the United Sates Congress.

Meeting Access

The PMAB will convene its meeting in the Eisenhower Executive Office Building, 1650 Pennsylvania Avenue NW., Washington, DC 20504. Due to security, there will be no public admittance to the Eisenhower Building to attend the meeting. However, the meeting is open to the public and may be viewed at http://www.whitehouse.gov/live. Members of the public wishing to comment on the discussion or topics outlined in the Agenda should follow the steps detailed in Procedures for Providing Public Comments below.

Availability of Materials for the Meeting

Please see the PMAB Web site: ­(http://www.whitehouse.gov/administration/advisory-boards/pmab) for any materials available in advance of the meeting, and for meeting minutes that will be made available after the meeting. Detailed meeting minutes will be posted within 90 days of the meeting.

Procedures for Providing Public Comments

In general, public statements will be posted on the PMAB Web site (http://www.whitehouse.gov/administration/advisory-boards/pmab). Non-electronic documents will be made available for public inspection and copying in PMAB offices at GSA, 1800 F Street NW., Washington, DC 20405, on official business days between the hours of 10 a.m., and 5 p.m., EST. You can make an appointment to inspect statements by telephoning 202-695-9554. All statements, including attachments and other supporting materials received, are part of the public record and subject to public disclosure. Any statements submitted in connection with the PMAB meeting will be made available to the public under the provisions of the Federal Advisory Committee Act.

The public is invited to submit written statements for this meeting until 12:30 p.m., EST, on Friday, November 13, by either of the following methods: Electronic or Paper Statements: Submit electronic statements to Mr. Golson, Designated Federal Officer at brad.golson@gsa.gov; or send paper statements in triplicate to Mr. Golson at the PMAB GSA address above.

Dated: October 21, 2015.
Christine Harada,
Associate Administrator, Office of Government-wide Policy, General Services Administration.

[FR Doc. 2015-27368 Filed 10-27-15; 8:45 am]

BILLING CODE 6820-BR-P